DEPARTMENT OF ENERGY

Federal Energy Regulatory Commission

[Docket No. CP01-409-000 and Docket No. CP01-409-000]

Tractebel Calypso Pipeline, L.L.C.; Notice of Availability of the Draft Environmental Impact Statement and Announcement of a Public Comment Meeting for the Proposed Tractebel Calypso Pipeline Project

August 1, 2003.

The staff of the Federal Energy Regulatory Commission (FERC or Commission) has prepared a Draft Environmental Impact Statement (DEIS) on the natural gas pipeline facilities proposed by Tractebel Calypso Pipeline, L.L.C. (Tractebel Calypso) in the above-referenced docket.

The DEIS was prepared to satisfy the requirements of the National Environmental Policy Act. The staff concludes that approval of the proposed project with the appropriate mitigating measures as recommended, would have limited adverse environmental impact. The DEIS also evaluates alternatives to the proposal, including system alternatives, major route alternatives, and route variations, and requests comments on them.

The DEIS addresses the potential environmental effects of the construction and operation of approximately 42.5 miles of 24-inch-diameter, interstate natural gas pipeline extending from a receipt point on the Exclusive Economic Zone (EEZ) boundary between the United States and the Bahamas to delivery points in Broward County, Florida. In addition, associated ancillary facilities proposed to be constructed include two block valves and one meter and pressure regulation station/block valve. These pipeline facilities are part of a larger project that involves a nonjurisdictional LNG facility and natural gas pipeline from the liquefied natural gas facility located near Freeport, Bahamas to the EEZ boundary that would be constructed by Tractebel's subsidiary, Hawksbill Creek LNG, Ltd. after authorization by the Bahamas Environmental Science and Technology (BEST) Commission. The application for BEST Commission authorization has not been filed.

The purpose of the Tractebel Calypso Pipeline Project is to transport 832,000 dekatherms/day (Dth/day) of natural gas on an annual basis to new markets in southeastern Florida.

Comment Procedures and Public Meeting

Any person wishing to comment on the DEIS may do so. To ensure consideration prior to a Commission decision on the proposal, it is important that we receive your comments before the date specified below. Please carefully follow these instructions to ensure that your comments are received in time and properly recorded:

• Send an original and two copies of your comments to:

Magalie Salas, Secretary, Federal Energy Regulatory Commission, 888 First St., NE., Room 1A, Washington, DC 20426;

• Label one copy of the comments for the attention of Gas Branch 3, PJ11.3,

• Reference Docket No. CP01-409-000; and

• Mail your comments so that they will be received in Washington, DC on or before September 15, 2003.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Login to File” and then “New User Account.”

In addition to accepting written and electronically filed comments, one public meeting to receive comments on this DEIS will be held at the following time and location.

Date and time | Location
Monday, September 8, 2003 at 7 pm | I.T. Parker Community Center 901 N.E. Third Street, Dania Beach, FL 33004 (954) 924-3698.

Interested groups and individuals are encouraged to attend and present oral comments on the environmental impacts described in the DEIS. Transcripts of the meetings will be prepared.

After these comments are reviewed, any significant new issues are investigated, and modifications are made to the DEIS, a Final Environmental Impact Statement (FEIS) will be published and distributed by the staff. The FEIS will contain the staff's responses to timely comments filed on the DEIS.

Comments will be considered by the Commission but will not serve to make the commentor a party to the proceeding. Any person seeking to become a party to the proceeding must file a motion to intervene pursuant to Rule 214 of the Commission's Rules of Practice and Procedures (18 CFR 385.214).

Anyone may intervene in this proceeding based on this DEIS. You must file your request to intervene as specified above.¹ You do not need intervenor status to have your comments considered.

¹ Interventions may also be filed electronically via the Internet in lieu of paper. See the previous discussion on filing comments electronically.

The DEIS has been placed in the public files of the FERC and is available for distribution and public inspection at: Federal Energy Regulatory Commission, Public Reference and Files Maintenance Branch, 888 First Street, NE., Room 2A, Washington, DC 20426, (202) 502-8371.

A limited number of copies are available from the Public Reference and Files Maintenance Branch identified above. In addition, copies of the DEIS have been mailed to Federal, state and local agencies, public interest groups, individuals who have requested the DEIS, newspapers, and parties to this proceeding.

Additional information about the project is available from the Commission's Office of External Affairs, at 1-866-208-FERC or on the FERC Internet Web site (http://www.ferc.gov) using the FERRIS link. Click on the FERRIS link, enter the docket number excluding the last three digits in the Docket Number field. Be sure you have selected an appropriate date range. For assistance with FERRIS, the FERRIS helpline can be reached at 1-866-208-3676, TTY (202) 502-8659 or at FERCOnLineSupport@ferc.gov. The FERRIS link on the FERC Internet Web site also provides access to the texts of formal documents issued by the Commission, such as orders, notices, and rulemakings.

In addition, the Commission now offers a free service called eSubscription which allows you too keep track of all formal issuances and submittals in specific dockets. This can reduce the amount of time you spend researching proceedings by automatically providing you with notification of these filings, document summaries and direct links to the documents. Go to http://www.ferc.gov/esubscribenow.htm.

Linda Mitry,
Acting Secretary.

[FR Doc. 03-20250 Filed 8-7-03; 8:45 am]

BILLING CODE 6717-01-P